DEPARTMENT OF HEALTH AND HUMAN SERVICES

National Institutes of Health

Center for Scientific Review; Amended Notice of Meeting

Notice is hereby given of a change in the meeting of the Enabling Bioanalytical and Biophysical Technologies Study Section, June 23, 2005, 8:30 a.m. to June 24, 2005, 6 p.m., Wyndham City Center Hotel, 1143 New Hampshire Ave., NW., Washington, DC, 20037 which was published in the Federal Register on May 18, 2005, 70 FR 28549-28552.

The starting time of the meeting on June 23, 2005 has been changed to 8 a.m. until adjournment. The meeting dates and location remain the same. The meeting is closed to the public.

Dated: May 25, 2005.
LaVerne Y. Stringfield,
Director, Office of Federal Advisory Committee Policy.

[FR Doc. 05-11078 Filed 6-2-05; 8:45 am]

BILLING CODE 4140-01-M